DEPARTMENT OF HOMELAND SECURITY

Office of the Secretary

[Docket Number DHS-2007-0010]

Privacy Act: Verification Information System Records Notice

AGENCY: Privacy Office, Department of Homeland Security.

ACTION: Notice to alter a system of records; request for comments.

SUMMARY: As part of its ongoing effort to review and update the legacy system of records notices, the Department of Homeland Security is altering previously established Privacy Act systems of records published by the former Immigration and Naturalization Service for the Verification and Information System (VIS) Justice/INS-035 published October 17, 2002 (67 FR 64134) and Alien Status Verification Index (ASVI) Justice/INS-009 published September 7, 2001 (66 FR 46815). The Department of Homeland Security will consolidate information from different systems of records notices and is adding new sources of data to the VIS to update the routine uses that were previously published for this system of records.

DATES: The established systems of records will be effective on May 9, 2007.

ADDRESSES: You may submit comments, identified by Docket Number DHS-2007-0010 by one of the following methods:

• Federal e-Rulemaking Portal: http://www.regulations.gov. Follow the instructions for submitting comments.

• Fax: 1-866-466-5370.

• Mail: Hugo Teufel III, Chief Privacy Officer, Department of Homeland Security, Washington, DC 20528.

FOR FURTHER INFORMATION CONTACT: For system related questions please contact: Gerri Ratliff, Verification Division, U.S. Citizenship and Immigration Services, Department of Homeland Security, 111 Massachusetts Avenue, NW., Washington, DC 20529. For privacy issues please contact: Hugo Teufel III, Chief Privacy Officer, Privacy Office, U.S. Department of Homeland Security, Washington, DC 20528.

SUPPLEMENTARY INFORMATION:

I. USCIS Verification Information System

In various statutes, Congress mandated that USCIS establish a system that can be used to verify citizenship and immigration status of individuals seeking government benefits and establish a system for use by employers to determine whether a newly hired employee is authorized to work in the United States. USCIS implemented this mandate through the Systematic Alien Verification for Entitlements (SAVE) program for government benefits and the Basic Pilot Program for determining whether a newly hired employee is authorized to work in the United States. The Verification Information System (VIS) is the technical infrastructure that enables USCIS to operate SAVE and Basic Pilot. VIS is a nationally accessible database of selected immigration status information containing in excess of 100 million records. Government agencies use SAVE information to help determine whether a non-citizen is eligible for any public benefit, license or credential based on citizenship and immigration status. Private employers and government users use Basic Pilot information to determine whether a newly hired employee is authorized to work in the United States.

VIS is currently comprised of citizenship, immigration and employment status information from several DHS systems of records, including records contained in the U.S. Customs and Border Protection (CBP) Treasury Enforcement Communication Systems (TECS) (66 FR 52984), the Image Storage and Retrieval System (ISRS) (66 FR 6672), the USCIS Central Index System (CIS) (72 FR 1755), and the USCIS Computer Linked Application Information Management System (CLAIMS 3) (62 FR 11919).

This System of Records Notice is replacing the following systems of records previously published by Department of Justice's Immigration and Naturalization Service (DOJ/INS): the DOJ/INS 009 Alien Status Verification Index system (ASVI) (66 FR 46815) and the DOJ/INS 035 Verification Information System (VIS) (67 FR 64134).

A. SAVE Program

The SAVE Program, which is supported by VIS, provides government agencies with citizenship and immigration status information for use in determining an individual's eligibility for government benefits. Government agencies input biographic information into VIS for government benefit eligibility determinations and if VIS has a record pertaining to the individual, the government agency will receive limited biographic information on the citizenship and immigration status of the individual applying for a benefit. If VIS does not have a record pertaining to the individual, VIS automatically notifies a USCIS Immigration Status Verifier (ISV). The ISV then conducts a manual search of other DHS databases to determine whether there is any other information pertaining to that individual that would provide citizenship and immigration status. If the ISV finds additional relevant information, citizenship and immigration status data is provided to the requesting government agency user through VIS. The ISV will also update the appropriate record in USCIS' CIS database. The REAL ID Act requires that beginning May 2008, with a possible extension for States until December 2009, all states routinely utilize the USCIS SAVE program to verify the legal immigration status of applicants for driver's licenses and identification cards.

B. Basic Pilot

VIS also supports the Basic Pilot Program, a free and voluntary program allowing participating employers to verify the employment eligibility of newly hired employees. The program is a collaboration between the Social Security Administration (SSA) and USCIS.

After an individual is hired by the employer and completes the Form I-9, employers input information from Sections 1 and 2 of the Form I-9 into the Basic Pilot portion of VIS. This query is first sent from VIS to SSA to verify social security information. If SSA cannot verify the employee's social security information, SSA will send a response to VIS which in turn will notify the employer of SSA's inability to verify the information provided by employee. The employer is then required to provide information to the employee about how the employee may contact SSA to resolve any issues. If SSA is able to verify the employee information and verify that the individual is a U.S. Citizen, (“USC”), VIS provides a confirmation to the employer. No further action is taken by VIS. If SSA is able to verify the employee information and the individual is a non-USC, the VIS system continues the process in order to verify employment authorization. Through VIS, USCIS provides the employer with a case verification number and the disposition of whether an employee is authorized to work. If VIS does not have a record pertaining to the individual, VIS automatically notifies an ISV. The ISV then conducts a manual search of other DHS databases to determine whether there is any other information pertaining to that individual that would provide employment eligibility status. If the ISV cannot determine the person's work eligibility, VIS notifies the employer that the employee must contact USCIS. If it is determined that an employee is not authorized to work after the employee is referred to SSA or USCIS, the employer may terminate the individual's employment.

Performing a verification query through the Basic Pilot system is only legally permissible after an offer of employment has been extended to an employee. The earliest the employer may initiate a query is after an individual accepts an offer of employment and after the employee and employer complete the Form I-9. The employer must initiate the query no later than the end of three business days after the new hire's actual start date. Information from the Basic Pilot cannot be used to pre-screen individuals, re-screen individuals after being employed for longer than three days, or discriminate against individuals legally authorized to work in the United States.

C. Updates to VIS

VIS previously consolidated information from different DHS Systems of Records, with this update VIS will now add additional data elements from different DHS Systems of Records in order to enhance data completeness within VIS. USCIS is currently enhancing the employment verification function of VIS to allow an employer to query the system by inputting the new hire's USCIS receipt number, which is located on the secure Form I-551 (Permanent Resident Card) or the secure Form I-766 (Employment Authorization Document). The receipt number is a unique number associated with the issuance of the card. In addition, USCIS is piloting a new functionality that allows employers using Basic Pilot to compare the photo contained on secure issued USCIS cards against the photo on file in ISRS and/or the USCIS Biometric Storage System (BSS) (when deployed). These enhancements will significantly improve the speed at which USCIS will be able to verify the employment eligibility of many non-citizen new hires and reduce the likelihood of identity fraud through forged documents.

Once deployed, additional data elements from the BSS and ICE's Student and Exchange Visitor Information System (SEVIS) will be added to the VIS system. In order to support programmatic goals, the system will also have improved audit and reporting capability so that USCIS can better identify misuse of the system and programs supported by the system.

II. The Privacy Act

The Privacy Act embodies fair information principles in a statutory framework governing the means by which the United Stated Government collects, maintains, uses and disseminates personally identifiable information. The Privacy Act applies to information that is maintained in a “system of records.” A “system of records” is a group of any records under the control of an agency from which information is retrieved by the name of an individual or by some identifying number, symbol, or other particular assigned to an individual.

The Privacy Act requires each agency to publish in the Federal Register a description denoting the type and character of each system of records that the agency maintains, and the routine uses that are contained in each system to make agency recordkeeping practices transparent, to notify individuals reading the uses to which personally identifiable information is put, and to assist the individual to more easily find such files within the agency.

In accordance with 5 U.S.C. 552a(r), a report on this system has been sent to Congress and to the Office of Management and Budget.

SYSTEM OF RECORDS:

DHS/USCIS-004.

SYSTEM NAME:

U.S. Citizenship and Immigration Services Verification Information System (VIS).

SYSTEM LOCATION:

The Verification Information System (VIS) database is housed in a contractor-owned facility in Meriden, CT. The system is accessible via the Internet, Web services, Secure File Transfer Protocol (SFTP) batch, and through a computer via analog telephone line, and is publicly accessible to participants of the Systematic Alien for Verification Entitlements (SAVE) program and the Basic Pilot Employer Verification program, including authorized USCIS personnel, other authorized government users, participating employers, and other authorized users.

CATEGORIES OF INDIVIDUALS COVERED BY THE SYSTEM:

Individuals covered by provisions of the Immigration and Nationality Act of the United States including but not limited to individuals who have been lawfully admitted to the United States, individuals who have been granted citizenship and individuals who have applied for other immigration benefits pursuant to 8 U.S.C. 1103 et seq.

CATEGORIES OF RECORDS IN THE SYSTEM:

A. Data originating from the USCIS Central Index System (CIS), including the following information about the Individual who comes before USCIS: Alien Registration Number (A-Number), Name (last, first, middle), Date of birth, Date entered United States (entry date), Country of birth, Class of Admission code, File Control Office code, Social Security Number, Admission Number (I-94 Number), Provision of Law code cited for employment authorization, office code where the authorization was granted, Date employment authorization decision issued, Date employment authorization may begin (start date), Date employment authorization expires (expiration date), Date employment authorization denied (denial date).

B. Data originating from the U.S. Customs and Border Protection Treasury Enforcement Communications System (TECS), including the following information about the individual: A-Number, Name (last, first, middle), Date alien's status was changed (status change date), Date of birth, Class of Admission Code, Date admitted until, Country of citizenship, Port of entry, Date entered United States (entry date), Departure date, I-94 Number, Visa Number.

C. Data originating from the USCIS Image Storage and Retrieval System and/or the USCIS Biometric Storage System (when deployed), including: Receipt Number, Name (last, first, middle), Date of Birth, Country of Birth, Alien number, Form number, for example Form I-551 (Lawful Permanent Resident card) or Form I-766 (Employment Authorization Document), Expiration Date, and Photo.

D. Data originating from the USCIS Computer Linked Application Information Management System (CLAIMS 3), including: Receipt number, Name (last, first, middle), Date of Birth, Country of Birth, Class of Admission Code, A-number, I-94 number, Date entered United States (entry date), and Valid To Date.

E. Data originating from the U.S. Immigration and Customs Enforcement (ICE) Student and Exchange Visitor Information System (SEVIS), including: SEVIS Identification Number (SEVIS ID), Name (last, first, middle), Date of Birth, Country of Birth, Class of Admission Code, I-94 number, Date entered United States (entry date), and Valid To Date.

F. Data originating from Social Security Administration (SSA), including: Confirmation of employment eligibility based on SSA records, Tentative non-confirmation of employment eligibility and the underlying justification for this decision, and Final non-confirmation of employment eligibility.

G. Information collected from the benefit applicant by the benefit-issuing agency to facilitate immigration status verification that may include the following about the benefit applicant: Receipt Number, A-Number, I-94 Number, Name (last, first, middle), Date of birth, User Case Number, DHS document type, DHS document expiration date, SEVIS ID andVisa Number.

H. Information collected from the benefit-issuing agency about users accessing the system to facilitate immigration status verification that may include the following about the Agency: Agency name, Address, Point of Contact, Contact telephone number, Fax number, E-mail address, Type of benefit(s) the agency issues (i.e. Unemployment Insurance, Educational Assistance, Driver Licensing, Social Security Enumeration, etc.).

I. Information collected from the benefit-issuing agency about the Individual Agency User including: Name (last, first, middle), Phone Number, Fax Number, E-mail address, User ID for users within the Agency.

J. System-generated response, as a result of the SAVE verification process including: Case Verification Number, Entire record in VIS database as outlined above, including all information from CIS, SEVIS, TECS, and CLAIMS 3 and with the exception of the biometric information (photo) from ISRS and/or BSS (once deployed), and Immigration status (e.g. Lawful Permanent Resident).

K. Information collected from the employee by the Employer User to facilitate employment eligibility verification may include the following about the Individual employee: Receipt Number, Visa Number, A-Number, I-94 Number, Name (last, first, middle initial, maiden), Social Security Number, Date of birth, Date of hire, Claimed citizenship status, Acceptable Form I-9 document type, and Acceptable Form I-9 Document expiration date.

L. Information Collected About the Employer, including: Company name, Physical Address, Employer Identification Number, North American Industry Classification System code, Number of employees, Number of sites, Parent company or Corporate company, Name of Contact, Phone Number, Fax Number, and E-Mail Address.

M. Information Collected about the Employer User (e.g., Identifying users of the system at the Employers), including: Name, Phone Number, Fax Number, E-mail address, and User ID.

N. System-generated response information, resulting from the employment eligibility verification process, including: Case Verification Number; VIS generated response: Employment authorized, Tentative non-confirmation, Case in continuance, Final non-confirmation, Employment unauthorized, or DHS No Show; Disposition data from the employer includes Resolved Unauthorized/Terminated, Self Terminated, Invalid Query, Employee not terminated, Resolved Authorized, and Request additional verification, which includes why additional verification is requested by the employer user.

AUTHORITY FOR MAINTENANCE OF RECORDS:

8 U.S.C. 1255a, 8 U.S.C. 1324a, 8 U.S.C. 1360 and 42 U.S.C. 1320b-7.

PURPOSE(S):

This system of records is used to provide immigration status information to Federal, State, and local government agencies for immigrants, non-immigrants, and naturalized U.S. citizens applying for Federal, State, and local public benefits. It is also used to provide employment authorization information to employers participating in the Basic Pilot/Employment Eligibility Verification Program. This System of Records Notice is replacing both the previously published ASVI SORN and VIS SORN.

VIS is the technical infrastructure that enables USCIS to operate SAVE and Basic Pilot. In instances when an electronic verification cannot be confirmed by the VIS for either the SAVE or the Basic Pilot program, an electronic transmission of the verification request is sent through VIS to USCIS's ISVs for secondary processing. For Federal, State, and local government agency users of the SAVE program, there are a variety of instances in which either a secondary or third-step query may need to be completed manually through submission of the form G-845 Immigration Status/Document Verification Request. These instances occur due to technical limitations of the interfaces by which the agency users access the SAVE program. In these instances, the VIS system is not accessed at all, and secondary and third-step verifications are conducted through manual searches of DHS systems by ISVs. For Basic Pilot users, in instances when the verification cannot be confirmed by VIS, an electronic transmission is sent by VIS to USCIS for processing by the Los Angeles Status Verification Unit.

Currently, no other DHS component has access to VIS data except for those that have signed MOUs permitting them to use the SAVE and/or Basic Pilot programs. Examples of such use by DHS components include TSA, which is utilizing the system to ascertain the immigration status of applicants applying for hazardous materials driver's licenses.

The VIS system includes audit and reporting functionality, and will be used for monitoring and compliance with system and program usage requirements set forth by USCIS. Audit or use reporting data in the system may be used to refer potential occurrences of fraud and/or egregious violations of SAVE or the Basic Pilot program to ICE.

ROUTINE USES OF RECORDS MAINTAINED IN THE SYSTEM, INCLUDING CATEGORIES OF USERS AND THE PURPOSES OF SUCH USES:

In addition to those disclosures generally permitted under 5 U.S.C. 552a(b) of the Privacy Act, all or a portion of the records or information contained in this system may be disclosed outside DHS as a routine use pursuant to 5 U.S.C. 552a(b)(3) as follows:

A. To a Federal, State, tribal, or local government agency, or to a contractor acting on its behalf, to the extent that such disclosure is necessary to enable these agencies to make decisions concerning: (1) Determination of eligibility for a Federal, State, or local public benefit; (2) issuance of a license or grant; or (3) government-issued credential.

B. To employers participating in the Basic Pilot Employment Verification Program in order to verify the employment eligibility of all newly hired employees in the United States.

C. To other Federal, State, tribal, and local government agencies seeking to verify or determine the citizenship or immigration status of any individual within the jurisdiction of the DHS as authorized or required by law.

D. To contractors, grantees, experts, consultants, and others performing or working on a contract, service, grant, cooperative agreement, or other assignment for the federal government, when necessary to accomplish a DHS mission function related to this system of records, in compliance with the Privacy Act of 1974, as amended.

E. To a Congressional office, from the record of an individual in response to an inquiry from that Congressional office made at the request of the individual to whom the record pertains.

F. To the National Archives and Records Administration or other Federal government agencies pursuant to records management inspections being conducted under the authority of 44 U.S.C. 2904 and 2906.

G. To a former employee of the Department for purposes of: (1) Responding to an official inquiry by a Federal, State, or local government entity or professional licensing authority, in accordance with applicable Department regulations; or (2) facilitating communications with a former employee that may be necessary for personnel-related or other official purposes where the Department requires information and/or consultation assistance from the former employee regarding a matter within that person's former area of responsibility.

H. To the Department of Justice (DOJ), Civil Rights Division, for the purpose of responding to matters within the DOJ's jurisdiction to include allegations of fraud and/or nationality discrimination.

I. To appropriate agencies, entities, and persons when: (1) It is suspected or confirmed that the security or confidentiality of information in the system of records has been compromised; (2) it is determined that as a result of the suspected or confirmed compromise there is a risk of harm to economic or property interests, identity theft or fraud, or harm to the security or integrity of this system or other systems or programs (whether maintained by DHS or another agency or entity) that rely upon the compromised information; and (3) the disclosure is made to such agencies, entities, and persons when reasonably necessary to assist in connection with efforts to respond to the suspected or confirmed compromise and prevent, minimize, or remedy such harm.

J. To the United States Department of Justice (including United States Attorney offices) or other federal agency conducting litigation or in proceedings before any court, adjudicative or administrative body, or to the court or administrative body, when it is necessary to the litigation and one of the following is a party to the litigation or has an interest in such litigation: (1) DHS; (2) any employee of DHS in his or her official capacity; (3) any employee of DHS in his or her individual capacity where DOJ or DHS has agreed to represent said employee; or (4) the United States or any agency thereof;

K. To appropriate Federal, State, local, tribal, or foreign governmental agencies or multilateral governmental organizations responsible for investigating or prosecuting the violations of, or for enforcing or implementing, a statute, rule, regulation, order, license, or treaty where DHS determines that the information would assist in the enforcement of civil or criminal laws;

L. To Federal and foreign government intelligence or counterterrorism agencies when DHS reasonably believes there to be a threat or potential threat to national or international security for which the information may be useful in countering the threat or potential threat, when DHS reasonably believes such use is to assist in anti-terrorism efforts, and disclosure is appropriate to the proper performance of the official duties of the person making the disclosure;

DISCLOSURE TO CONSUMER REPORTING AGENCIES:

None.

POLICIES AND PRACTICES FOR STORING, RETRIEVING, ACCESSING, RETAINING, AND DISPOSING OF RECORDS IN THE SYSTEM:

STORAGE:

Data is stored in computer accessible storage media and hardcopy format.

RETRIEVABILITY:

Agency records are retrieved by name of applicant or other unique identifier to include: verification number, A-Number, I-94 Number, Visa Number, SEVIS ID , or by the submitting agency name. Employer records are retrieved by verification number, A-Number, I-94 Number, Receipt Number, or Social Security Number of the employee, or by the submitting company name.

SAFEGUARDS:

Information in this system is safeguarded in accordance with applicable laws and policies, including the DHS information technology security policies and the Federal Information Security Management Act (FISMA). All records are protected from unauthorized access through appropriate administrative, physical, and technical safeguards. These safeguards include restricting access to authorized personnel who have a need-to-know, using locks, and password protection features. The system is also protected through a multi-layer security approach. The protective strategies are physical, technical, administrative and environmental in nature, which provide access control to sensitive data, physical access control to DHS facilities, confidentiality of communications, authentication of sending parties, and personnel screening to ensure that all personnel with access to data are screened through background investigations commensurate with the level of access required to perform their duties.

Information maintained by DHS contractors for this system is also safeguarded in accordance with all applicable laws and regulations, including DHS IT security policies and FISMA. . Access is controlled through user identification and discrete password functions to assure that accessibility is limited.

RETENTION AND DISPOSAL:

Completed verifications are archived to a storage disk monthly and are archived. The following proposal for retention and disposal is being prepared to be sent to the National Archives and Records Administration for approval. Records are stored and retained in the VIS Repository for twenty (20) years, from the date of the completion of the verification. VIS will retain data contained within this system to facility USCIS' ability to conduct trend analysis that may reflect the commission of fraud or other illegal activity related to misuse of either the SAVE or Basic Pilot program and to facilitate the reconstruction of an individual's employment eligibility history. Further, retaining the data for this period of time will enable USCIS to fight identity fraud and misappropriation of benefits.

SYSTEM MANAGER(S) AND ADDRESS:

Director, Verification Division, U.S. Citizenship and Immigration Services, DDC Building, 4th Floor, 111 Massachusetts Avenue, NW., Washington, DC 20529.

NOTIFICATION PROCEDURES:

Please address your inquiries about the VIS system in writing to the system manager identified above. To determine whether this system contains records relating to you, provide a written request containing the following information:

1. Identification of the record system;

2. Identification of the category and types of records sought; and

3. The requesting individual's signature and verification of identity pursuant to 28 U.S.C. 1746, which permits statements to be made under penalty of perjury. Alternatively, a notarized statement may be provided.

Address inquiries to the system manager at: Director, Verification Division, U.S. Citizenship and Immigration Services, 111 Massachusetts Avenue, NW., 4th Floor, Washington, DC 20529 or to the Freedom of Information/Privacy Act Office, USCIS, National Records Center, P.O. Box 6481010, Lee Summit, MO 64064-8010.

RECORD ACCESS PROCEDURES:

In order to gain access to one's information stored in the VIS database, a request for access must be made in writing and addressed to the Freedom of Information Act/Privacy Act (FOIA/PA) officer at USCIS. Individuals who are seeking information pertaining to themselves are directed to clearly mark the envelope and letter “Privacy Act Request.” Within the text of the request, the subject of the record must provide his/her account number and/or the full name, date and place of birth, and notarized signature, and any other information which may assist in identifying and locating the record, and a return address. For convenience, individuals may obtain Form G-639, FOIA/PA Request, from the nearest DHS office and used to submit a request for access. The procedures for making a request for access to one's records can also be found on the USCIS Web site, located at http://www.uscis.gov.

An individual who would like to file a FOIA/PA request to view their USCIS record may do so by sending the request to the following address: U.S. Citizenship and Immigration Services, National Records Center, FOIA/PA Office, P.O. Box 648010, Lee's Summit, MO 64064-8010.

CONTESTING RECORDS PROCEDURES:

Individuals have an opportunity to correct their data by submitting a redress request directly to the USCIS Privacy Officer who refers the redress request to USCIS's Office of Records. When a redress is made, the change is added directly to the existing records stored in the underlying DHS system of records from which the information was obtained. Once the record is updated in the underlying DHS system of records, it is downloaded into VIS. If an applicant believes their file is incorrect but does not know which information is erroneous, the applicant may file a Privacy Act request as detailed in the section titled “Record access procedures” above.

RECORD SOURCE CATEGORIES:

Information contained comes from several sources: A. Information derived from the following DHS systems of records, USCIS's CIS, CLAIMS3, ISRS, and BSS; CBP's TECS; and ICE's SEVIS, B. Information collected from agencies and employers about individuals seeking government benefits or employment with an employer using an employment verification program, C. Information collected from system users at either the agency or the employer used to provide account access to the verification program, and D. Information developed by VIS to identify possible issues of misuse or fraud.

EXEMPTIONS CLAIMED FOR THE SYSTEM:

None.

Issued in Arlington, Virginia.
Hugo Teufel III,
Chief Privacy Officer.

[FR Doc. E7-6611 Filed 4-6-07; 8:45 am]

BILLING CODE 4410-10-P